DEPARTMENT OF LABOR

Employment and Training Administration

[TA-W-73,426]

FCI USA, LLC Corporate Administrative Division Including On-Site Leased Workers From JFC Including Teleworkers Located Throughout the United States Reporting to Etters, PA; Amended Certification Regarding Eligibility To Apply for Worker Adjustment Assistance

In accordance with Section 223 of the Trade Act of 1974, as amended (“Act”), 19 U.S.C. 2273, the Department of Labor issued a Certification of Eligibility To Apply for Worker Adjustment Assistance on April 6, 2010, applicable to workers of FCI USA, LLC, Corporate Administrative Division, including on-site leased workers from JFC, Etters, Pennsylvania. The workers supply internal corporate administrative services. The notice was published in the Federal Register on May 5, 2010 (75 FR 24750).

At the request of the Texas Workforce Commission, the Department reviewed the certification for workers of the subject firm.

New information shows that worker separations have occurred involving employees of the subject firm who telework from off-site locations throughout the United States who report to the Etters, Pennsylvania location of FCI USA, LLC, Corporate Administrative Division. These employees provided sales and engineering activities related to the supply of internal corporate administrative services for the subject firm.

Based on these findings, the Department is amending this certification to include employees of the subject firm who telework and report to the Etters, Pennsylvania facility.

The intent of the Department's certification is to include all workers of the subject firm who were adversely affected by a shift in corporate administrative services to China, India and Malaysia.

The amended notice applicable to TA-W-73,426 is hereby issued as follows:

All workers of FCI USA, LLC, Corporate Administrative Division, including on-site leased workers from JFC, including teleworkers located throughout the United States reporting to Etters, Pennsylvania, who became totally or partially separated from employment on or after February 1, 2009, through April 6, 2012, and all workers in the group threatened with total or partial separation from employment on date of certification through two years from the date of certification, are eligible to apply for adjustment assistance under Chapter 2 of Title II of the Trade Act of 1974, as amended.

Signed in Washington, DC, this 9th day of January 2012.
Elliott S. Kushner,
Certifying Officer, Office of Trade Adjustment Assistance.

[FR Doc. 2012-1332 Filed 1-23-12; 8:45 am]

BILLING CODE 4510-FN-P